SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: April 1-30, 2016.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(f) for the time period specified above:

Approvals by Rule Issued Under 18 CFR 806.22(f)

1. Chesapeake Appalachia, LLC, Pad ID: Joe, ABR-201108014.R1, Wilmot Township, Bradford County, Pa.; Consumptive Use of Up to 7.5000 mgd; Approval Date: April 1, 2016.

2. Chesapeake Appalachia, LLC, Pad ID: Colcam, ABR-201108019.R1, Meshoppen Township, Wyoming County, Pa.; Consumptive Use of Up to 7.5000 mgd; Approval Date: April 1, 2016.

3. Chesapeake Appalachia, LLC, Pad ID: Mad Dog, ABR-201108021.R1, Wilmot Township, Bradford County, Pa.; Consumptive Use of Up to 7.5000 mgd; Approval Date: April 1, 2016.

4. Chesapeake Appalachia, LLC, Pad ID: Adams, ABR-201108038.R1, Windham Township, Wyoming County, Pa.; Consumptive Use of Up to 7.5000 mgd; Approval Date: April 1, 2016.

5. Chief Oil & Gas, LLC, Pad ID: Martino Drilling Pad #1, ABR-201604001, Albany Township, Bradford County, Pa.; Consumptive Use of Up to 2.5000 mgd; Approval Date: April 1, 2016.

6. SWN Production Company, LLC, Pad ID: PU-KK Valentine-Soliman Pad, ABR-201103008.R1, Lenox Township, Susquehanna County, Pa.; Consumptive Use of Up to 4.9900 mgd; Approval Date: April 1, 2016.

7. SWN Production Company, LLC, Pad ID: PU-CC Valentine-Price Pad, ABR-201104019.R1, Lenox Township, Susquehanna County, Pa.; Consumptive Use of Up to 4.9900 mgd; Approval Date: April 1, 2016.

8. Chesapeake Appalachia, LLC, Pad ID: LKM, ABR-201109014.R1, Litchfield Township, Bradford County, Pa.; Consumptive Use of Up to 7.5000 mgd; Approval Date: April 4, 2016.

9. SWN Production Company, LLC, Pad ID: Sheldon Pad, ABR-201102028.R1, Jackson Township, Susquehanna County, Pa.; Consumptive Use of Up to 4.9900 mgd; Approval Date: April 4, 2016.

10. Chesapeake Appalachia, LLC, Pad ID: McGroarty, ABR-201109012.R1, Albany Township, Bradford County, Pa.; Consumptive Use of Up to 7.5000 mgd; Approval Date: April 7, 2016.

11. Chesapeake Appalachia, LLC, Pad ID: Circle H, ABR-201109033.R1, Wilmot Township, Bradford County, Pa.; Consumptive Use of Up to 7.5000 mgd; Approval Date: April 7, 2016.

12. Samson Exploration, LLC, Pad ID: Pardee & Curtin Lumber Co. C-12H, ABR-201011062.R1, Shippen Township, Cameron County, Pa.; Consumptive Use of Up to 5.0000 mgd; Approval Date: April 11, 2016.

13. Chesapeake Appalachia, LLC, Pad ID: Hillis, ABR-201108035.R1, Herrick Township and Wyalusing Borough, Bradford County, Pa.; Consumptive Use of Up to 7.5000 mgd; Approval Date: April 11, 2016.

14. Carrizo (Marcellus), LLC, Pad ID: Frystak Central Pad, ABR-201108012.R1, Bridgewater Township, Susquehanna County, Pa.; Consumptive Use of Up to 2.100 mgd; Approval Date: April 11, 2016.

15. Carrizo (Marcellus), LLC, Pad ID: Bush Pad, ABR-201109028.R1, Forest Lake and Bridgewater Townships, Susquehanna County, Pa.; Consumptive Use of Up to 2.1000 mgd; Approval Date: April 11, 2016.

16. Chesapeake Appalachia, LLC, Pad ID: Tyler, ABR-201108034.R1, Auburn Township, Susquehanna County, Pa.; Consumptive Use of Up to 7.5000 mgd; Approval Date: April 11, 2016.

17. Chesapeake Appalachia, LLC, Pad ID: Susan, ABR-201108036.R1, Auburn Township, Susquehanna County, Pa.; Consumptive Use of Up to 7.5000 mgd; Approval Date: April 11, 2016.

18. Chesapeake Appalachia, LLC, Pad ID: Jag, ABR-201109002.R1, Franklin Township, Bradford County, Pa.; Consumptive Use of Up to 7.5000 mgd; Approval Date: April 11, 2016.

19. Atlas Resources, LLC, Pad ID: Lundy Well Pad, ABR-201103010.R1, Gamble Township, Lycoming County, Pa.; Consumptive Use of Up to 3.6000 mgd; Approval Date: April 15, 2016.

20. JKLM Energy, LLC, Pad ID: Headwaters 143, ABR-201604002, Ulysses Township, Potter County, Pa.; Consumptive Use of Up to 7.0000 mgd; Approval Date: April 15, 2016.

21. Talisman Energy USA Inc., Pad ID: 02-180 Dorn A, ABR-201604003, Hamilton Township, Tioga County, Pa.; Consumptive Use of Up to 6.0000 mgd; Approval Date: April 15, 2016.

22. Range Resources-Appalachia, LLC, Pad ID: Bobst Mountain Hunting Club #18H-#23H Drilling Pad, ABR-201103031.R1, Cogan House Township, Lycoming County, Pa.; Consumptive Use of Up to 5.0000 mgd; Approval Date: April 18, 2016.

23. Range Resources-Appalachia, LLC, Pad ID: Shipman, James Unit #1H & #2H Drilling Pad, ABR-201104014.R1, Lewis Township, Lycoming County, Pa.; Consumptive Use of Up to 5.0000 mgd; Approval Date: April 18, 2016.

24. Range Resources-Appalachia, LLC, Pad ID: Shipman-Goodwill Unit #1H-#4H Drilling Pad, ABR-201104016.R1, Lewis Township, Lycoming County, Pa.; Consumptive Use of Up to 5.0000 mgd; Approval Date: April 18, 2016.

25. Chesapeake Appalachia, LLC, Pad ID: Smurkoski, ABR-201109032.R1, Meshoppen Township, Wyoming County, Pa.; Consumptive Use of Up to 7.5000 mgd; Approval Date: April 22, 2016.

26. Chesapeake Appalachia, LLC, Pad ID: Stone, ABR-201109035.R1, Tuscarora Township, Bradford County, Pa.; Consumptive Use of Up to 7.5000 mgd; Approval Date: April 22, 2016.

27. EXCO Resources (PA), LLC, Pad ID: Arthur Pad, ABR-201103018.R1, Franklin Township, Lycoming County, Pa.; Consumptive Use of Up to 8.0000 mgd; Approval Date: April 22, 2016.

28. Seneca Resources Corporation, Pad ID: DCNR 100 PAD B, ABR-201107035.R1, McIntyre Township, Lycoming County, Pa.; Consumptive Use of Up to 4.0000 mgd; Approval Date: April 22, 2016.

29. Seneca Resources Corporation, Pad ID: DCNR 595 Pad G, ABR-201107033.R1, Blossburg Borough, Tioga County, Pa.; Consumptive Use of Up to 4.0000 mgd; Approval Date: April 22, 2016.

30. Seneca Resources Corporation, Pad ID: Rich Valley Pad E, ABR-201107032.R1, Shippen Township, Cameron County, Pa.; Consumptive Use of Up to 4.0000 mgd; Approval Date: April 22, 2016.

31. Talisman Energy USA Inc., Pad ID: 05 011 Alderson V, ABR-201104008.R1, Pike Township, Bradford County, Pa.; Consumptive Use of Up to 6.0000 mgd; Approval Date: April 22, 2016.

32. Carrizo (Marcellus), LLC, Pad ID: Cowfer—1, ABR-20090417.R1, Rush Township, Centre County, Pa.; Consumptive Use of Up to 0.9990 mgd; Approval Date: April 27, 2016.

33. Chesapeake Appalachia, LLC, Pad ID: Brule, ABR-201110005.R1, Elkland Township, Sullivan County, Pa.; Consumptive Use of Up to 7.5000 mgd; Approval Date: April 27, 2016.

34. Cabot Oil & Gas Corporation, Pad ID: Dobrosielski P1, ABR-201107051.R1, Auburn Township, Susquehanna County, Pa.; Consumptive Use of Up to 3.5750 mgd; Approval Date: April 28, 2016.

35. Cabot Oil & Gas Corporation, Pad ID: Mogridge P1, ABR-201108005.R1, Springville Township, Susquehanna County, Pa.; Consumptive Use of Up to 3.5750 mgd; Approval Date: April 28, 2016.

36. Cabot Oil & Gas Corporation, Pad ID: CorbinJ P1, ABR-201108049.R1, Brooklyn Township, Susquehanna County, Pa.; Consumptive Use of Up to 3.5750 mgd; Approval Date: April 28, 2016.

37. Chesapeake Appalachia, LLC, Pad ID: Nicholson, ABR-201110022.R1, Nicholson Township, Wyoming County, Pa.; Consumptive Use of Up to 7.5000 mgd; Approval Date: April 29, 2016.

Authority: Pub. L. 91-575, 84 Stat. 1509 et seq., 18 CFR parts 806, 807, and 808.

Dated: June 9, 2016.
Stephanie L. Richardson,
Secretary to the Commission.

[FR Doc. 2016-14201 Filed 6-15-16; 8:45 am]

BILLING CODE 7040-01-P